DEPARTMENT OF DEFENSE

Office of the Secretary

[Transmittal No. 19-39]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-39 with attached Policy Justification and Sensitivity of Technology.

Dated: September 20, 2019.
Aaron T. Siegel,
Alternate OSD Federal Register Liaison Officer, Department of Defense.

BILLING CODE 5001-06-P

BILLING CODE 5001-06-C

Transmittal No. 19-39

Notice of Proposed Issuance of Letter of Offer Pursuant to Section 36(b)(1) of the Arms Export Control Act, as amended

(i) Prospective Purchaser: Government of Greece

(ii) Total Estimated Value:

Major Defense Equipment * | $300 million
Other | $300 million
Total | $600 million

(iii) Description and Quantity or Quantities of Articles or Services under Consideration for Purchase:

Major Defense Equipment (MDE):

Seven (7) MH-60R Multi-Mission Helicopters, equipped with the following:

Ten (10) APS-l 53(V) Multi-Mode Radars (7 installed, 3 spares)

Eighteen (18) 1700 GE-401 C Engines (14 installed, 4 spares)

Seven (7) Airborne Low Frequency System (ALFS) (7 installed)

Ten (10) AN/AAS-44C(V) Multi-Spectral Targeting Systems (7 installed, 3

spares)

Eighteen (18) Embedded Global Positioning System/Inertial Navigation Systems

with Selective Availability/Anti-Spoofing Module (SAASM) (14 installed, 4 spares)

One-thousand (1,000) AN/SSQ-36/53/62 Sonobuoys

Two (2) AGM-114 M36-E9 Captive Air Training Missiles (CATM)

Four (4) AGM-l 14Q Hellfire Training Missiles

One Hundred (100) Advanced Precision Kill Weapons System (APKWS) Rockets Thirty (30) MK 54 Torpedoes

Twelve (12) M-240D Crew Served Guns

Twelve (12) GAU-21 Crew Served Guns

Non-MDE:

Also included are eighteen (18) AN/ARC-210 APX-1990A(C) Radios with COMSEC (14 installed and 4 spares); twenty-four (24) AN/AVS-9 Night Vision Devices; ten (10) AN/ APX-123 Identification Friend or Foe (IFF) transponders (8 installed, 2 spares); spare engine containers; facilities study, design, and construction; spare and repair parts; support and test equipment; communication equipment; ferry support; publications and technical documentation; personnel training and training equipment; U.S. Government and contractor engineering, technical and logistics support services; and other related elements of logistical and program support.

(iv) Military Department: Navy (GR-P-SCK)

(v) Prior Related Cases, if any: None

(vi) Sales Commission, Fee, etc., Paid, Offered, or Agreed to be Paid: None

(vii) Sensitivity of Technology Contained in the Defense Article or Defense Services Proposed to be Sold: See Attached Annex (viii) Date Report Delivered to Congress: July 12, 2019

* As defined in Section 47(6) of the Arms Export Control Act.

POLICY JUSTIFICATION

Greece — MH-60R Multi-Mission Helicopters

The Government of Greece has requested to buy up to seven (7) MH-60R Multi-Mission Helicopters equipped with ten (10) APS-l 53(V) Multi-Mode Radars (7 installed, 3 spares); eighteen (18) T700 GE-401 C Engines (14 installed, 4 spares); seven (7) Airborne Low Frequency System (ALFS) (7 installed); ten (10) AN/ AAS-44C(V) Multi-Spectral Targeting Systems (7 installed, 3 spares); eighteen (18) Embedded Global Positioning System/Inertial Navigation Systems with Selective Availability/Anti-Spoofing Module (SAASM) (14 installed, 4 spares); one-thousand (1,000) AN/SSQ-36/53/62 Sonobuoys; two (2) AGM-114 M36-E9 Captive Air Training Missiles (CATM); four (4) AGM-114Q Hellfire Training Missiles; one Hundred (100) Advanced Precision Kill Weapons System (APKWS) Rockets; thirty (30) MK 54 Torpedoes; twelve (12) M-2400 Crew Served Guns; and twelve (12) GAU-21 Crew Served Guns. Also included are eighteen (18) AN/ARC-210 APX-1990A(C) Radios with COMSEC (14 installed and 4 spares); twenty-four (24) AN/AVS-9 Night Vision Devices; ten (10) AN/APX-123 Identification Friend or Foe (IFF) transponders (8 installed, 2 spares); spare engine containers; facilities study, design, and construction; spare and repair parts; support and test equipment; communication equipment; ferry support; publications and technical documentation; personnel training and training equipment; U.S. Government and contractor engineering, technical and logistics support services; and other related elements of logistical and program support. The estimated total case value is $600 million.

This proposed sale will support U.S. foreign policy and national security objectives by helping to improve the security of a NATO ally, which is an important partner for political stability and economic progress in Europe. The MH-60R helicopters will bolster the Hellenic Navy's ability to support NATO and remain interoperable with the U.S. and the NATO alliance.

The proposed sale will improve Greece's capability to meet current and future threats. The MH-60R Multi-Mission Helicopter will provide the capability to perform anti-surface and anti-submarine warfare missions along with the ability to perform secondary missions including vertical replenishment, search and rescue, and communications relay. Greece will have no difficulty absorbing these helicopters into its armed forces.

The proposed sale of this equipment will not alter the basic military balance in the region.

The principal contractor will be Lockheed Martin Rotary and Mission Systems in Owego, New York. There are no known offset agreements in connection with this potential sale.

Implementation of this proposed sale will require the assignment of five (5) additional U.S. Government personnel and five (5) contractor representatives to Greece.

There will be no adverse impact on U.S. defense readiness as a result of this proposed sale.

Notice of Proposed Issuance of Letter of Offer Pursuant to Section 36(b)(1) of the Arms Export Control Act

Annex

Item No. vii

(vii) Sensitivity of Technology:

1. The MH-60R Multi-Mission Helicopter is employed primarily for anti-submarine and anti-surface warfare missions. The MH-60R carries several sensors and data links to enhance its ability to work in a network-centric battle group and as an extension of its home ship/main operating base. The mission systems consists of the following sensors and subsystems: an acoustics system consisting of a dipping sonar, sonobuoys, and acoustics processor; Multi-Mode Radar (MMR) with integrated Identification Friend or Foe (IFF) interrogator; Radios with COMSEC; Electronic Support Measures (ESM); Integrated Self-Defense (ISD); and Multi-Spectral Targeting System (MTS). Also, Night Vision Devices (AN/AVS-9) are included for CONOPS and interoperability with USN. It can carry AGM-l 14NB/K/N Hellfire missiles and Mk 46/54 lightweight torpedoes to engage surface and sub-surface targets. The Hellenic Navy MH-60R platform will include provisions for the Mk 54 lightweight torpedo. The MH-60R weapons system is classified up to SECRET. Unless otherwise noted below, MH-60R hardware and support equipment, test equipment and maintenance spares are unclassified except when electrical power is applied to hardware containing volatile data storage. Technical data and documentation for MH-60R weapons systems (to include sub-systems and weapons listed below) are classified up to SECRET. The sensitive technologies include:

a. The AGM-114 HELLFIRE missile is an air-to-surface missile with a multimission, multi-target, precision strike capability. The HELLLFIRE can be launched from multiple air platforms and is the primary precision weapon for the United States Army. The highest level for release of the AGM-114 HELLFIRE is SECRET, based upon the software. The highest level of classified information that could be disclosed by a proposed sale or by testing of the end item is SECRET; the highest level that must be disclosed for production, maintenance, or training is CONFIDENTIAL. Reverse engineering could reveal CONFIDENTIAL information. Vulnerability data, countermeasures, vulnerability/susceptibility analyses, and threat definitions are classified SECRET or CONFIDENTIAL.

b. Advanced Precision Kill Weapon System (APKWS) laser guided rocket to counter the fast attack craft and fast inshore attack craft threat. APKWS hardware is UNCLASSIFIED.

c. The lightweight air launched torpedo (Mk54) is used for surface and subsurface targets. The acquisition of Mk54 will include ancillary equipment and publications.

d. Communications security (COMSEC) devices contain sensitive encryption algorithms and keying material. The purchasing country has previously been released and utilizes COMSEC devices in accordance with set procedures and without issue. COMSEC devices will be classified up to SECRET when keys are loaded.

e. Identification Friend or Foe (IFF) (KIV-78) contains embedded security devices containing sensitive encryption algorithms and keying material. The purchasing country will utilize COMSEC devices in accordance with set procedures. The AN/APX-123 is classified up to SECRET.

f. GPS/PPS/SAASM - Global Positioning System (OPS) provides a space-based Global Navigation Satellite System (GNSS) that has reliable location and time information in all weather and at all times and anywhere on or near the earth when and where there is an unobstructed line of sight to four or more OPS satellites. Selective Availability/Anti-Spoofing Module (SAASM) (AN/PSN-11) is used by military OPS receivers to allow decryption of precision OPS coordinates. In addition, the OPS Antenna System (GAS-I) provides protection from enemy manipulation of the OPS system. The OPS hardware is UNCLASSIFIED. When electrical power is applied, the system is classified up to SECRET.

g. Acoustics algorithms are used to process dipping sonar and sonobuoy data for target tracking and for the Acoustics Mission Planner (AMP), which is a tactical aid employed to optimize the deployment of sonobuoys and the dipping sonar. Acoustics hardware is UNCLASSIFIED. The acoustics system is classified up to SECRET when environmental and threat databases are loaded and/or the system is processing acoustic data.

h. The AN/APS-153 multi-mode radar with an integrated IFF and Inverse Synthetic Aperture (ISAR) provides target surveillance/detection capability. The AN/APS-153 hardware is UNCLASSIFIED. When electrical power is applied and mission data loaded, the AN/APS-153 is classified up to SECRET.

i. The AN/ALQ-210 (ESM) system identifies the location of an emitter. The ability of the system to identify specific emitters depends on the data provided by Hellenic Navy. The AN/ALQ-210 hardware is Unclassified. When electrical power is applied and mission data loaded, the AN/ALQ-210 system is classified up to SECRET.

j. The AN/AAS-44C(V) Multi-spectral Targeting System (MTS) operates in day/night and adverse weather conditions. Imagery is provided by a ForwardLooking Infrared (FLIR) sensor, a color/monochrome day television (DTV) camera, and a Low-Light TV (LLTV). The AN/AAS-44C(V) hardware is UNCLASSIFIED. When electrical power is applied, the AN/AAS-44C(V) is classified up to SECRET.

k. Ultra High Frequency/Very High Frequency (UHFNHF) Radios (ARC 210) contain embedded sensitive encryption algorithms and keying material. The purchasing country will utilize COMSEC devices in accordance with set procedures. The ARC-210 hardware is UNCLASSIFIED. When electrical power is applied and mission data loaded, the ARC-210 is classified up to SECRET.

l. Advanced Data Transfer System (ADTS) with Type 1 encryption for data at rest.

m. Satellite Communications Demand Assigned Multiple Access (SATCOM DAMA), which provides increased, interoperable communications capabilities with US forces. SATCOM DAMA hardware is UNCLASSIFIED. When electrical power is applied and mission data loaded these systems are classified up to SECRET.

2. All the mission data, including sensitive parameters, is loaded from an off board station before each flight and does not stay with the aircraft after electrical power has been removed. Sensitive technologies are protected as defined in the program protection and anti-tamper plans. The mission data and off board station are classified up to SECRET.

3. If a technologically advanced adversary were to obtain knowledge of the specific hardware and software elements, the information could be used to develop countermeasures or equivalent systems, which might reduce weapon system effectiveness or be used in the development of a system with similar or advanced capabilities.

4. This sale is necessary in furtherance of the U.S. foreign policy and national security objectives outlined in the enclosed Policy Justification. A determination has been made that Greece can provide the same degree of protection for the sensitive technology being released as the U.S. Government.

5. All defense articles and services listed in this transmittal have been authorized for release and export to Greece.

[FR Doc. 2019-20838 Filed 9-24-19; 8:45 am]

BILLING CODE 5001-06-P